COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List a product and service to be furnished by nonprofit agencies employing persons who are blind or have other severe disabilities.

DATES: Effective Date: August 5, 2007.

ADDRESSES: Committee for Purchase From People Who Are Blind or Severely Disabled, Jefferson Plaza 2, Suite 10800, 1421 Jefferson Davis Highway, Arlington, Virginia 22202-3259.

FOR FURTHER INFORMATION CONTACT: Kimberly M. Zeich, Telephone: (703) 603-7740, Fax: (703) 603-0655, or e-mail CMTEFedReg@jwod.gov.

SUPPLEMENTARY INFORMATION: On May 11, 2007, the Committee for Purchase From People Who Are Blind or Severely Disabled published notice (72 FR 26779) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following product and services are added to the Procurement List:

Product:

Bag, Sand.

NSN: 8105-00-782-2709—Sand Bag.

Coverage: C-List for the requirements of the Defense Supply Center Philadelphia, Philadelphia, PA.

NPA: Southeast Vocational Alliance, Inc., Houston, TX.

Contracting Activity: Defense Supply Center Philadelphia, Philadelphia, PA.

Service:

Service Type/Location: Custodial & Grounds Maintenance, Cannons Corners POE,1295 Cannons Corners Road, Mooers Forks, NY.

Service Type/Location: Custodial & Grounds Maintenance, Churubusco POE, 1219 State Route 189, Churubusco, NY.

NPA: Citizen Advocates, Inc., Malone, NY.

Contracting Activity: Department of Homeland Security, Customs and Border Protection, Indianapolis, IN.

This action does not affect current contracts awarded prior to the effective date of this addition or options that may be exercised under those contracts.

Kimberly M. Zeich,
Director, Program Operations.

[FR Doc. E7-13079 Filed 7-5-07; 8:45 am]

BILLING CODE 6353-01-P